COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add product(s) and service(s) to the Procurement List that will be furnished by nonprofit agencies employing persons who are blind or have other severe disabilities, and deletes product(s) previously furnished by such agencies.

DATES: Comments must be received on or before: December 11, 2021.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

7930-00-NIB-0737—Scrubbing Towels, Dual Textured

7920-00-NIB-0738—Disinfectant Wipes, Surface, 110 count canister

Designated Source of Supply: Winston-Salem Industries for the Blind, Inc., Winston-Salem, NC

Contracting Activity: FEDERAL ACQUISITION SERVICE, GSA/FSS GREATER SOUTHWEST ACQUISITI

Mandatory for: Total Government Requirement

Distribution: A-List

Service(s)

Service Type: Plant Maintenance Services

Mandatory for: GSA PBS Region 5, Minton-Capehart Federal Building, Indianapolis, IN and Major General Emmett J. Bean Federal Center, Indianapolis, IN

Designated Source of Supply: GW Commercial Services, Inc., Indianapolis, IN

Contracting Activity: PUBLIC BUILDINGS SERVICE, PBS R5

Service Type: Custodial Service

Mandatory for: FAA, Air Traffic Control Tower, Morristown, NJ

Designated Source of Supply: Fedcap Rehabilitation Services, Inc., New York, NY

Contracting Activity: FEDERAL AVIATION ADMINISTRATION, 697DCK REGIONAL ACQUISITIONS SVCS

Deletions

The following product(s) are proposed for deletion from the Procurement List:

Product(s)

NSN(s)—Product Name(s):

MR 931—Refill, Roller Mop, Angled Head, 10.5″ Head

MR 1106—Bag, Storage, Vacuum Sealed, 2PG

Designated Source of Supply: Industries for the Blind and Visually Impaired, Inc., West Allis, WI

Contracting Activity: Military Resale-Defense Commissary Agency

NSN(s)—Product Name(s):

7110-01-590-8676—Dual Monitor Arm, Column Mount, Ergonomic, Dark Gray, 21.7″ W x 14.6″ H x 7.1″ D

7110-01-590-8674—Monitor Arm, Column Mount, Ergonomic, Individual, Dark Gray, 17″

Designated Source of Supply: Chicago Lighthouse Industries, Chicago, IL

Contracting Activity: GSA/FAS FURNITURE SYSTEMS MGT DIV, PHILADELPHIA, PA

NSN(s)—Product Name(s):

4330-01-121-6350—Parts Kit, Automatic Transmission Filter

5330-00-599-4230—Gasket

Designated Source of Supply: Goodwill Industries—Knoxville, Inc., Knoxville, TN

Contracting Activity: DLA LAND AND MARITIME, COLUMBUS, OH

Michael R. Jurkowski,
Acting Director, Business Operations.

[FR Doc. 2021-24700 Filed 11-10-21; 8:45 am]

BILLING CODE 6353-01-P